DEPARTMENT OF TRANSPORTATION

Federal Aviation Administration

RTCA Special Committee 197: Rechargeable and Starting Batteries

AGENCY: Federal Aviation Administration (FAA), DOT.

ACTION: Notice of RTCA Special Committee 197 meeting.

SUMMARY: The FAA is issuing this notice to advise the public of a meeting of RTCA Special Committee 197: Rechargeable and Starting Batteries.

DATES: The meeting will be held May 22-24, 2001 starting at 8:30 p.m. on Tuesday, May 22nd, and at 8 a.m. the following days.

ADDRESSES: The meeting will be held at the Government Conference Centre, Rideau Street, Ottawa, Canada.

FOR FURTHER INFORMATION CONTACT: (1) RTCA Secretariat, 1140 Connecticut Avenue, NW., Washington, DC, 20036; telephone (202) 833-9339; fax (202) 833-9434; web site http://www.rtca.org. (2) On-site Point of Contact: Jim Deviller, Ottawa, Canada; telephone (613) 993-0696.

SUPPLEMENTARY INFORMATION: Pursuant to section 10(a)(2) of the Federal Advisory Committee Act (P.L. 92-463, 5 U.S.C., Appendix 2), notice is hereby given for a Special Committee 197 meeting. Note: SC-197 will be meeting with TC21 Working Group 4 of the International Electrotechnical Commission (IEC). The agenda will include:

• May 22, 23, 24:

• Opening Session (Welcome and Introductory Remarks, Review of Agenda, Review Summary of Previous Meeting)

• Review Action Items and Status

• Review and Discuss RTCA activity and relationship with IEC

• Discuss draft documents, intended use and implementation

• Closing Session (Other Business, Establish Agenda for Next Meeting, Date and Place of Next Meeting)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 9, 2001.
Janice L. Peters,
FAA Special Assistant, RTCA Advisory Committee.

[FR Doc. 01-12235 Filed 5-15-01; 8:45 am]

BILLING CODE 4910-13-P